FEDERAL ELECTION COMMISSION

Sunshine Act Meetings

AGENCY: Federal Election Commission.

DATE & TIME: Thursday, July 16, 2015 at 10:00 a.m.

PLACE: 999 E Street NW., Washington, DC (Ninth Floor).

STATUS: This meeting will be open to the public.

ITEMS TO BE DISCUSSED:

Correction and Approval of Minutes for June 18, 2015

Draft Advisory Opinion 2015-02: Grand Trunk Western Railroad Company—Illinois Central Railroad Company PAC

Draft Advisory Opinion 2015-03: Democracy Rules, Inc.

Draft Advisory Opinion 2015-04: Collective Actions PAC

Proposed Directive 74 on the Timely Resolution of Enforcement Matters

Notice to Respondents of Information Sharing by the Commission

Proposed Statement of Policy Regarding the Public Disclosure of Closed Enforcement Files

Policy on Third-Party Appearances Before the Commission to Discuss Advisory Opinions

Draft Notice of Disposition on REG 2014-06: Candidate Debates

Draft Notice of Availability on REG 2015-03: Contributions from Corporations and Other Organizations to Political Committees

Draft Notice of Availability on REG 2015-04: Independent Spending by Corporations, Labor Organizations, Foreign Nationals, and Certain Political Committees

Revised Meeting Dates for September—December 2015

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2015-17275 Filed 7-9-15; 4:15 pm]

BILLING CODE 6715-01-P